DEPARTMENT OF THE INTERIOR

National Park Service

[NPS-NERO-MAMC-15743; PPNCNACEN0, PPMPSAS1Z.Y00000]

Request for Nominations for the Mary McLeod Bethune Council House National Historic Site Advisory Commission

AGENCY: National Park Service, Interior.

ACTION: Call for Nominations.

SUMMARY: The National Park Service, U.S. Department of the Interior, is seeking nominations for individuals to be considered for appointment to the Mary McLeod Bethune Council House National Historic Site Advisory Commission. The Commission was authorized on December 11, 1991, by Section 4 of the Public Law 102-211, for the purpose of advising the Secretary of the Interior. The Commission shall meet and consult on matters relating to the management and development of the historic site as often as necessary, but at least semiannually.

DATES: Written nominations must be received by September 8, 2014.

ADDRESSES: Send nominations to: Judy Bowman, Staff Assistant, Office of the Regional Director, National Capital Region, National Park Service, 1100 Ohio Drive SW., Washington, DC 20240, or by email Judy_Bowman@nps.gov.

FOR FURTHER INFORMATION CONTACT: Gopaul Noojibail, Deputy Superintendent, Office of the Superintendent, National Capital Parks—East, 1900 Anacostia Drive SE., Washington, DC 20020, by telephone number (202) 692-6000, or email gopaul_noojibail@nps.gov.

SUPPLEMENTARY INFORMATION: The Mary McLeod Bethune Council House National Historic Site was established by Section 4 of the Public Law 102-211, December 11, 1991. The Secretary and the Advisory Commission shall meet and consult on matters relating to the management and development of the historic site as often as necessary, but at least semiannually.

Nominations should describe and document the proposed member's qualifications for membership to the Commission, and include a resume listing his or her name, title, address, telephone, email, and fax number (if available).

The Commission shall be composed of 15 members appointed by the Secretary for 4-year terms as follows: (1) 3 members appointed from recommendations submitted by the National Council of Negro Women, Inc. (2) 2 members appointed from recommendations submitted by other national organizations in which Mary McLeod Bethune played a leadership role. (3) 2 members appointed who shall have professional expertise in the history of African American women. (4) 3 members who shall have professional expertise in archival management. (5) 3 members who shall represent the general public. (6) 2 members who shall have professional expertise in historic preservation.

The Chair and the other officers of the Commission shall be elected by a majority of the members of the Commission to serve for terms established by the Commission.

Some Commissioners may serve as Special Governmental Employees, which may include the completion of an annual financial disclosure report and annual ethics training.

No individual who is currently registered as a Federal lobbyist is eligible to serve on the Commission.

All required documents must be compiled and submitted in one complete nomination package. Incomplete submissions (missing one or more of the items described below) will not be considered.

Submitting Nominations

Nominations should be typed and must include each of the following:

A. Brief summary of no more than two (2) pages explaining the nominee's suitability to serve on the Commission.

B. Resume or curriculum vitae.

C. At least one (1) letter of reference.

Members of the Commission will receive no pay, allowances, or benefits by reason of their service on the Commission. However, while away from their homes or regular places of business in the performance of services for the Commission as approved by the Designated Federal Officer (DFO), members will be allowed travel expenses, including per diem in lieu of subsistence, in the same manner as persons employed intermittently in Government service are allowed such expenses under Section 5703 of Title 5 of the United State Code.

Meetings may take place at such times as designated by the DFO. Members are expected to make every effort to attend all meetings. Members may not appoint deputies or alternates.

Dated: May 19, 2014.
Alma Ripps,
Chief, Office of Policy.

[FR Doc. 2014-17269 Filed 7-22-14; 8:45 am]

BILLING CODE 4310-WV-P